SECURITIES AND EXCHANGE COMMISSION

Submission for OMB Review; Comment Request

Upon Written Request, Copies Available From: Securities and Exchange Commission, Office of Filings and Information Services, Washington, DC 20549.

Extension

Rule 29; SEC File No. 270-169; and OMB Control No. 3235-0149.

Notice is hereby given that, pursuant to the Paperwork Reduction Act of 1995 (44 U.S.C. 3501 et. seq.), the Securities and Exchange Commission (“Commission”) has submitted to the Office of Management and Budget a request for extension of the previously approved collection of information discussed below.

Rule 29 under the Public Utility Holding Company Act of 1935, as amended, (“Act”), 15 U.S.C. 79, et seq., requires that “[a] copy of each annual report submitted by any registered holding company or any of its subsidiaries to a state commission covering operations not reported to the Federal Energy Regulatory Commission shall be filed with the Securities and Exchange Commission no later than ten days after its submission.”

The regulation requires that the same reports prepared and filed under state law be filed with the Commission. The information collected under Rule 29 permits the Commission to remain current on developments that are reported to state commissions, but that may not otherwise be reported to the Commission. This information is beneficial to the liaison the Commission maintains with state governments and is also useful in the preparation of annual reports to the U.S. Congress required under Section 23 of the Act, 15 U.S.C. 79(w).

The Commission receives about 62 annual reports per year under this regulation. We estimate, on the basis of informal discussions with respondents, that the rule imposes a burden of about .25 hours each year for each respondent, who makes only one submission. Therefore, a total annual burden of 15.50 hours is imposed. The cost of this reporting burden is estimated to be $100 per hour or $1,550 total for all respondents. The responses are public records so confidentiality is not an issue. All registered companies and their subsidiaries are required to make the filings.

An Agency may not conduct or sponsor, and a person is not required to respond to, a collection of information unless it displays a currently valid control number.

Please direct general comments regarding the above information to the following persons: (i) Desk Officer for the Securities and Exchange Commission, Office of Information and Regulatory Affairs, Office of Management and Budget, Room 10102, New Executive Office Building, Washington, DC 20503, or send an e-mail to: David_Rostker@omb.eop.gov.; and (ii) R. Corey Booth, Director/Chief Information Officer, Office of Information Technology, Securities and Exchange Commission, 450 Fifth Street, NW., Washington, DC 20549. Comments must be submitted to OMB within 30 days of this notice.

Dated: March 15, 2004.
Margaret H. McFarland,
Deputy Secretary.

[FR Doc. 04-6262 Filed 3-22-04; 8:45 am]

BILLING CODE 8010-01-P